DEPARTMENT OF HOUSING AND URBAN DEVELOPMENT

[Docket No. FR-4572-D-10]

Delegation of Authority to the Director of the Enforcement Center

AGENCY: Office of the Assistant Secretary for Housing, HUD.

ACTION: Notice of Delegation of Authority.

SUMMARY: The Secretary of HUD has established an Enforcement Center to consolidate HUD's enforcement actions. In addition, pursuant to the regulations at 24 CFR Part 30, the Assistant Secretary for Housing-Federal Housing Commissioner has the authority to initiate and resolve civil money penalty actions against multifamily mortgagors and may delegate this authority to a designee. The National Housing Act at 12 U.S.C. 1735f-15(c)(1)(B)(x), provides that among the violations subject to civil money penalty sanction is the failure by an FHA mortgagor to timely file annual audited financial reports. A similar provision is made with regard to Section 202 mortgagors pursuant to 12 U.S.C. 1701q-1(c)(1)(J). This delegation of authority permits the Director of the Enforcement Center to take enforcement action for violations of 12 U.S.C. 1735f-15(c)(1)(B)(x) and 12 U.S.C. 1701q-1(c)(1)(J), through the initiation of civil money penalty actions pursuant to 24 CFR 30.45.

Effective Date: September 20, 2000.

FOR FURTHER INFORMATION CONTACT: Dane M. Narode, Deputy Chief Counsel, Administrative Proceedings Branch, Department Enforcement Center, Department of Housing and Urban Development, Portals Building, 1250 Maryland Avenue, Suite 200, Washington, DC 20024, (202) 708-3856. This is not a toll free number. For the hearing/speech-impaired, the number may be accessed via TTY by calling the Federal Information Relay Service at 1-800-877-8399.

SUPPLEMENTARY INFORMATION: HUD regulations, at 24 CFR 30.45, permit the Assistant Secretary of Housing—Federal Housing Commissioner to initiate and resolve civil money penalty actions against participants in HUD multifamily insured housing programs. These participants include: a mortgagor of any property that includes five or more living units and is subject to a mortgage insured, coinsured or held by the Secretary. Section 30.45 identifies the violations for which the Assistant Secretary may impose a penalty. Among the referenced violations is the mortgagor's failure to timely file audited financial reports. See 12 U.S.C. 1735f-15(c)(1)(B)(x) and 12 U.S.C. 1701q-1(c)(1)(J). Mortgagors are required to file annual financial reports within 60 days of the end of the mortgagor's fiscal year. These reports must be examined and certified by an independent or certified public accountant, and certified by an officer of the mortgagor.

Section 30.45 also provides that the Assistant Secretary may delegate his authority under the regulations to a designee. This document would make that delegation to the Director of the Enforcement Center. This delegation does not affect the authority of the Mortgagee Review Board to initiate civil money penalties, as described in 24 CFR 30.35, or the authority of the Assistant Secretary to initiate civil money penalties for violations identified in 12 U.S.C. 1735f-15(c)(1)(B)(x) and 12 U.S.C. 1701q-1(c)(1)(J).

Wherefore, the Assistant Secretary for Housing—Federal Housing Commissioner delegates authority, as follows:

Section A. Authority Delegate: The Director of the HUD Enforcement Center, as designee, is authorized to take all actions permitted under 24 CFR Part 30, as they pertain to violations identified in 12 U.S.C. 1735f-15(c)(1)(B)(x) and 12 U.S.C. 1701q-1(c)(1)(J).

Section B. Authority to Redelegate: The Director of the Enforcement Center is not authorized to redelegate, to another designee, the authority delegated under Section A.

Authority: Section 30.45 of Title 24 of the Code of Federal Regulations.

Dated: September 20, 2000.
William C. Apgar,
Assistant Secretary for Housing-Federal Housing Commissioner.

[FR Doc. 00-27844 Filed 10-30-00; 8:45 am]

BILLING CODE 4210-27-M